DEPARTMENT OF AGRICULTURE

Forest Service

Information Collection; Federal and Non-Federal Financial Assistant Instruments

AGENCY: Forest Service, USDA.

ACTION: Notice; request for comment.

SUMMARY: In accordance with the Paperwork Reduction Act of 1995, the Forest Service is seeking comments from all interested individuals and organizations on the new information collection, Federal and Non-Federal Financial Assistant Instruments.

DATES: Comments must be received in writing on or before January 19, 2010 to be assured of consideration. Comments received after that date will be considered to the extent practicable.

ADDRESSES: Comments concerning this notice should be addressed to Chris Coppenbarger, Director of Acquisitions Management, USDA Forest Service, 1400 Independence Ave. SW., Mailstop 1138, Washington, DC 20250.

Comments also may be submitted via facsimile to 720-605-5100 or by e-mail to: ccoppenbarger@fs.fed.us.

The public may inspect comments received at Forest Service, U.S. Department of Agriculture, 1621 N. Kent Street, RPE 707, Arlington, VA during normal business hours. Visitors are encouraged to call ahead to 703-605-4719 to facilitate entry to the building.

FOR FURTHER INFORMATION CONTACT: Chris Coppenbarger, Acquisitions Management at USDA Forest Service, 703-605-4719. Individuals who use telecommunication devices for the deaf (TDD) may call the Federal Relay Service (FRS) at 1-800-877-8339 twenty-four hours a day, every day of the year, including holidays.

SUPPLEMENTARY INFORMATION: Title: Federal and Non-Federal Financial Assistant Instruments.

OMB Number: 0596-NEW.

Type of Request: New.

Abstract: In order to carry out specific Forest Service activities, Congress created several authorities to assist the Agency in carrying out its mission. The Forest Service issues Federal Financial Assistance (FFA) awards (which are grants and cooperative agreements), as authorized by the Federal Grants and Cooperative Agreements Act (FGCAA), as well as agreements expressly exempted from FGCAA. In addition, Congress created specific authorizations for acts outside the scope of the FGCAA; as well as appropriations language conveying authority for the Forest Service to enter into relationships that are outside the scope of the FGCAA.

The Forest Service implements these authorizations using instruments such as collection agreements, FGCAA exempted agreements, memorandums of understanding, and other agreements (which contain mutual benefits for participating parties). These instruments fall outside the scope of the Federal Acquisition Regulations and often require financial plans and statements of work. To create, develop, and administer these funded and non-funded agreements, Forest Service employees collect information from cooperating parties from the pre-award to the closeout stage via telephone calls, e-mails, postal mail, and person-to-person meetings. Respondents usually have multiple options for responding, including forms, non-forms, electronically, face-to-face, over the telephone, and over the Internet. The scope of information collected varies, but typically includes project type, project scope, financial plan, statement of work, and cooperator's business information.

The information is collected from non-profit and for-profit institutions; institutions of higher education; State, local, and Native American tribal governments; individuals; foreign governments; and organizations. Without the collected information, the Forest Service would not be able to create, develop, and administer these funded and non-funded agreements. The Agency would be unable to develop or monitor projects, make or receive payments, or identify financial and accounting errors.

Estimate of Annual Burden: .1 to 4 hours annually per person.

Type of Respondents: Non-profit and for profit institutions; institutions of higher education; State, local, and Native American tribal governments, individuals; foreign governments; and organizations.

Estimated Annual Number of Respondents: 29,000.

Estimated Annual Number of Responses per Respondent: 1 to 4.

Estimated Total Annual Burden on Respondents: 23,101.9 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 13, 2009.
Charles L. Myers,
Deputy Chief.

[FR Doc. E9-27831 Filed 11-18-09; 8:45 am]

BILLING CODE 3410-11-P